DEPARTMENT OF THE INTERIOR

Bureau of Land Management

[UT-030-13-1610-PH-241A]

Call for Nominations for the Grand Staircase-Escalante National Monument Advisory Committee, UT

AGENCY: Bureau of Land Management, Interior.

ACTION: Notice.

SUMMARY: The purpose of this notice is to request public nominations for five members of the Grand Staircase-Escalante National Monument (GSENM) Monument Advisory Committee (MAC). The MAC provides advice and recommendations to GSENM management on science issues and the achievement of GSENM Management Plan objectives. GSENM will accept public nominations until April 26, 2013.

DATES: A completed nomination form and accompanying nomination/recommendation letters must be received at the address listed below no later than April 26, 2013.

ADDRESSES: Grand Staircase-Escalante National Monument Headquarters Office, 669 South Highway 89A, Kanab, UT 84741.

FOR FURTHER INFORMATION CONTACT: Larry Crutchfield, Public Affairs Officer, GSENM Headquarters Office, 669 South Highway 89A, Kanab, UT 84741; phone 435-644-1209 or email: lcrutchf@blm.gov.

SUPPLEMENTARY INFORMATION: The Secretary of the Interior established the GSENM MAC pursuant to section 309 of the Federal Land Policy and Management Act (FLPMA) of 1976 (43 U.S.C. 1739) and in conformity with the Federal Advisory Committee Act (FACA) of 1972 (5 U.S.C. Appendix 2). The 15 appointed members of the MAC perform several primary tasks: (1) Review evaluation reports produced by the Management Science Team and make recommendations on protocols and projects to meet overall objectives; (2) Review appropriate research proposals and make recommendations on project necessity and validity; (3) Make recommendations regarding allocation of research funds through review of research and project proposals as well as needs identified through the evaluation process above; and (4) Provide advice on issues such as protocols for specific projects.

The Secretary appoints persons to the MAC who are representatives of the various major citizen interests pertaining to land use planning and management of the lands under the BLM management in GSENM.

Each MAC member will be a person who, as a result of training and experience, has knowledge or special expertise that qualifies him or her to provide advice from among the categories of interests listed below. As appropriate, certain committee members may be appointed as Special Government Employees. Special Government Employees serve on the MAC without compensation, and are subject to financial disclosure requirements in the Ethics in Government Act and 5 CFR 2634.

This notice, published pursuant to 43 CFR 1784.4-1 and in accordance with the Approved Management Plan for Grand Staircase-Escalante National Monument (February 2000), requests the public to submit nominations to fill five positions on the MAC. Individuals may nominate themselves or others. Nomination forms may be obtained from the GSENM Headquarters Office (address listed above). To make a nomination, submit a letter of nomination, a completed nomination form, letters of reference from the represented interests or organizations associated with the interest represented by the candidate, and any other information that speaks to the candidate's qualifications. The Obama Administration prohibits individuals who are currently federally registered lobbyists from being appointed or re-appointed to FACA and non-FACA boards, committees, or councils.

Three new MAC members, one for each category, will be appointed for the following categories:

• An educator, to represent the educational community;

• A representative of the environmental community; and

• An outfitter and guide operating within the GSENM, to represent commercial users.

Two new MAC members, one for each category, will be appointed as Special Government Employees for the following areas of expertise:

• Social science.

• Wildlife biology.

The specific category the nominee would represent should be identified in the letter of nomination and in the nomination form. The BLM-Utah State Director and Monument Manager will review the nomination forms and letters of reference. The State Director shall confer with the Governor of the State of Utah on potential nominations. The BLM State Director will then forward recommended nominations to the Secretary of the Interior who has responsibility for making the appointments.

Members will serve without monetary compensation but will be reimbursed for travel and per diem expenses at current rates for government employees. The MAC meets at least twice a year. Additional meetings may be called by the Designated Federal Officer.

Approved:
Jenna Whitlock.
Associate State Director.

[FR Doc. 2013-07043 Filed 3-26-13; 8:45 am]

BILLING CODE 4310-DQ-P